DEPARTMENT OF ENERGY

Federal Energy Regulatory Commission

Combined Notice of Filings #1

Take notice that the Commission received the following electric rate filings:

Docket Numbers: ER10-2566-004; ER10-1760-004.

Applicants: Duke Energy Carolinas, LLC, Carolina Power & Light Company.

Description: Notice of Change in Status filing of Duke Energy Carolinas, LLC, et al.

Filed Date: 1/29/13.

Accession Number: 20130129-5121.

Comments Due: 5 p.m. ET 2/19/13.

Docket Numbers: ER13-736-001.

Applicants: Niagara Mohawk Power Corporation, New York Independent System Operator, Inc.

Description: Niagara Mohawk Power Corporation submits tariff filing per 35.17(b): Correction to LGIA No. 1145 between National Grid and AG Energy to be effective 6/8/2012.

Filed Date: 1/29/13.

Accession Number: 20130129-5128.

Comments Due: 5 p.m. ET 2/19/13.

Docket Numbers: ER13-739-000; ER13-739-001.

Applicants: Texpo Power, LP.

Description: Texpo Power, LP submits second supplemental submission to the January 10 and 23, 2013 filings.

Filed Date: 1/29/13.

Accession Number: 20130129-5108.

Comments Due: 5 p.m. ET 2/19/13.

Docket Numbers: ER13-740-000; ER13-740-001.

Applicants: EnerPenn USA LLC.

Description: EnerPenn USA LLC submits second supplemental submission to the January 10 and 23, 2013 filings.

Filed Date: 1/29/13.

Accession Number: 20130129-5109.

Comments Due: 5 p.m. ET 2/19/13.

Docket Numbers: ER13-814-000.

Applicants: PJM Interconnection, L.L.C.

Description: Notice of Cancellation-Original SA No. 2858 in Dkt No. ER11-3515-000 to be effective 12/31/2012.

Filed Date: 1/29/13.

Accession Number: 20130129-5032.

Comments Due: 5 p.m. ET 2/19/13.

Docket Numbers: ER13-815-000.

Applicants: Tiverton Power Inc.

Description: Tiverton Power Inc. submits tariff filing per 35.13(a)(2)(iii: Notice of Succession to be effective 1/18/2013.

Filed Date: 1/29/13.

Accession Number: 20130129-5044.

Comments Due: 5 p.m. ET 2/19/13.

Docket Numbers: ER13-816-000.

Applicants: PJM Interconnection, L.L.C.

Description: PJM Interconnection, L.L.C. submits tariff filing per 35.13(a)(2)(iii: Original Service Agreement No. 3480; Queue No. W1-107 to be effective 1/3/2013.

Filed Date: 1/29/13.

Accession Number: 20130129-5051.

Comments Due: 5 p.m. ET 2/19/13.

Docket Numbers: ER13-817-000.

Applicants: MATL LLP.

Description: MATL LLP submits tariff filing per 35.1: MATL Enbridge Baseline Filing to be effective 1/29/2013.

Filed Date: 1/29/13.

Accession Number: 20130129-5052.

Comments Due: 5 p.m. ET 2/19/13.

Docket Numbers: ER13-818-000.

Applicants: Niagara Mohawk Power Corporation, New York Independent System Operator, Inc.

Description: Niagara Mohawk Power Corporation submits tariff filing per 35.13(a)(2)(iii: Cost Reimbursement Agreement No. 1951 NYPA/NiMo re: mv trnsmssn fclts to be effective 11/9/2012.

Filed Date: 1/29/13.

Accession Number: 20130129-5084.

Comments Due: 5 p.m. ET 2/19/13.

Docket Numbers: ER13-819-000.

Applicants: Southern California Edison Company.

Description: Southern California Edison Company submits tariff filing per 35.13(a)(2)(iii: Revised Added Facilities Rate for Tie-Line Agreements to be effective 1/1/2013.

Filed Date: 1/29/13.

Accession Number: 20130129-5088.

Comments Due: 5 p.m. ET 2/19/13.

Docket Numbers: ER13-820-000.

Applicants: Southwest Power Pool, Inc.

Description: Southwest Power Pool, Inc. submits tariff filing per 35.13(a)(2)(iii: Revisions to Attachment AO—Agreement Establishing External Generation to be effective 3/30/2013.

Filed Date: 1/29/13.

Accession Number: 20130129-5091.

Comments Due: 5 p.m. ET 2/19/13.

Take notice that the Commission received the following land acquisition reports:

Docket Numbers: LA12-4-000.

Applicants: Spring Canyon Energy LLC, Judith Gap Energy LLC, Invenergy TN LLC, Wolverine Creek Energy LLC, Grays Harbor Energy LLC, Forward Energy LLC, Willow Creek Energy LLC, Sheldon Energy LLC, Hardee Power Partners Limited, Spindle Hill Energy LLC, Invenergy Cannon Falls LLC, Beech Ridge Energy LLC, Grand Ridge Energy LLC, Grand Ridge Energy II LLC, Grand Ridge Energy III LLC, Grand Ridge Energy IV LLC, Grand Ridge Energy V LLC, Vantage Wind Energy LLC, Stony Creek Energy LLC, Gratiot County Wind LLC, Gratiot County Wind II LLC, Bishop Hill Energy LLC, Bishop Hill Energy III LLC and California Ridge Wind Energy LLC.

Description: Generation Site Report Fourth Quarter 2012 of Spring Canyon Energy LLC, et al.

Filed Date: 1/29/13.

Accession Number: 20130129-5068.

Comments Due: 5 p.m. ET 2/19/13.

Docket Numbers: LA12-4-000.

Applicants: Iberdrola Renewables, LLC, Atlantic Renewable Projects II LLC, Barton Windpower LLC, Big Horn Wind Project LLC, Big Horn II Wind Project LLC, Blue Creek Wind Farm LLC, Buffalo Ridge I LLC, Buffalo Ridge II LLC, Casselman Windpower LLC, Colorado Green Holdings LLC, Dillon Wind LLC, Dry Lake Wind Power, LLC, Dry Lake Wind Power II LLC, Elk River Windfarm, LLC, Elm Creek Wind, LLC, Elm Creek Wind II LLC, Farmers City Wind, LLC, Flat Rock Windpower LLC, Flat Rock Windpower II LLC, Flying Cloud Power Partners, LLC, Groton Wind, LLC, Hardscrabble Wind Power LLC, Hay Canyon Wind LLC, Juniper Canyon Wind Power LLC, Klamath Energy LLC, Klamath Generation LLC, Klondike Wind Power LLC, Klondike Wind Power II LLC, Klondike Wind Power III LLC, Leaning Juniper Wind Power II LLC, Lempster Wind, LLC, Locust Ridge Wind Farm, LLC, Locust Ridge II, LLC, Manzana Wind LLC, MinnDakota Wind LLC, Moraine Wind LLC, Moraine Wind II LLC, Mountain View Power Partners III, LLC, New England Wind, LLC, New Harvest Wind Project LLC, Northern Iowa Windpower II LLC, Pebble Springs Wind LLC, Providence Heights Wind, LLC, Rugby Wind LLC, San Luis Solar LLC, Shiloh I Wind Project, LLC, South Chestnut LLC, Star Point Wind Project LLC, Streator-Cayuga Ridge Wind Power LLC, Trimont Wind I LLC, Twin Buttes Wind LLC.

Description: Quarterly Land Acquisition Report of Iberdrola Renewables, LLC, et al.

Filed Date: 1/29/13.

Accession Number: 20130129-5089.

Comments Due: 5 p.m. ET 2/19/13.

Docket Numbers: LA12-4-000.

Applicants: Southern Company Services, Inc., Alabama Power Company, Georgia Power Company, Gulf Power Company, Mississippi Power Company, Southern Power Company.

Description: Quarterly Land Acquisition Report of Southern Company Services, Inc.

Filed Date: 1/29/13.

Accession Number: 20130129-5090.

Comments Due: 5 p.m. ET 2/19/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2013.
Nathaniel J. Davis, Sr.,
Deputy Secretary.

[FR Doc. 2013-02496 Filed 2-4-13; 8:45 am]

BILLING CODE 6717-01-P